SECURITIES AND EXCHANGE COMMISSION

[Release No. PA-57A; File No. S7-14-21]

Privacy Act of 1974; System of Records; Correction

AGENCY: Securities and Exchange Commission.

ACTION: Notice; correction.

SUMMARY: The Securities and Exchange Commission published a document in the Federal Register on November 29, 2021, concerning a Privacy Act of 1974; System of Records. The document contained an incorrect effective date. Comments are due on December 29, 2021.

FOR FURTHER INFORMATION CONTACT: For general and privacy related questions please contact: Ronnette McDaniel, Privacy and Information Assurance Branch Chief, 202-551-7200 or privacyhelp@sec.gov.

SUPPLEMENTARY INFORMATION:

Correction

In the Federal Register of November 29, 2021 in FR Doc. 2021-25871, on page 67755, in the first column, correct the DATES section to read:

DATES: The changes will become effective December 29, 2021, to permit public comment on the revised routine uses. The Commission will publish a new notice if the effective date is delayed to review comments or if changes are made based on comments received. To assure consideration, comments should be received on or before December 29, 2021.

Dated: December 9, 2021.
J. Matthew DeLesDernier,
Assistant Secretary.

[FR Doc. 2021-26991 Filed 12-13-21; 8:45 am]

BILLING CODE P